DEPARTMENT OF THE INTERIOR

National Park Service

[NPS-PWR-PWRO-17645; PX.P0206452B.00.1]

Final Environmental Impact Statement for Wilderness Stewardship Plan, Sequoia and Kings Canyon National Parks, Fresno and Tulare Counties, California

AGENCY: National Park Service, Interior.

ACTION: Notice of Availability.

SUMMARY: The National Park Service (NPS) has prepared a Wilderness Stewardship Plan and Environmental Impact Statement (Final WSP/EIS). The Final WSP/EIS identifies and analyzes five alternatives that will provide direction for the NPS to make decisions regarding the future use and protection of the Sequoia-Kings Canyon and John Krebs Wilderness within Sequoia and Kings Canyon National Parks.

DATES: The NPS will execute a Record of Decision not sooner than 30 days from the date of publication of the U.S. Environmental Protection Agency's notice of availability for the Final EIS in the Federal Register.

FOR FURTHER INFORMATION CONTACT: Nancy Hendricks, Environmental Compliance and Planning Coordinator, Sequoia and Kings Canyon National Parks, 47050 Generals Highway, Three Rivers, CA 93271, (559) 565-3102. Electronic versions of the complete document are available online at http://parkplanning.nps.gov/sekiwild. Request printed documents or CDs through email (seki_planning@nps.gov) (type “Final WSP/EIS” in the subject line) or telephone (559) 565-3102.

SUPPLEMENTARY INFORMATION: The purposes of the WSP/EIS include implementing the long-term vision for protecting wilderness character that is contained in the parks' Final General Management Plan (GMP)/Final Environmental Impact Statement (EIS), as well as enhancing established programs and actions for managing these areas as wilderness. A variety of controversial or long-standing issues are addressed in the WSP/EIS, including visitor capacity, wilderness permitting, party (group) size limits for people and stock, campfire regulations, camping locations and regulations, food-storage requirements, human-waste management, stock access, stock grazing, maintenance of facilities and trails, and management of frontcountry facilities that support wilderness use. The WSP/EIS also analyzes and determines the types and levels of commercial services that may be performed for activities that are proper for realizing the recreational or other wilderness purposes of the areas, as required by § 4(d)(5) of the Wilderness Act (Extent Necessary Determination).

The WSP/EIS considers five alternatives that would manage the overall character of the parks' wilderness, including key aspects such as wilderness use levels, access and trails, stock use and grazing, recreational and administrative infrastructure, and the extent to which those activities proper for realizing wilderness purposes may be supported by commercial services. The main differences between these alternatives lie in the key elements of wilderness management—use levels, access and trails, stock use and grazing, and infrastructure, both recreational and administrative. These differences are driven by the different approach to management that each alternative offers. Each alternative serves visitor and/or operational needs in different ways, and would preserve natural resources in a condition that is consistent with the purposes of the Wilderness Act.

Alternative 1 (No-action/Status Quo) would continue to implement the existing Backcountry Management Plan (BMP) and the Stock Use and Meadow Management Plan (SUMMP) to guide wilderness management. The BMP establishes trailhead quotas, a wilderness permit system, and management objectives for campfires, campsites, sanitation, food storage, special-use limits, area closures, stock use and grazing, education and interpretation, trails and travel, signs, commercial operations, ranger stations, administrative policies, and monitoring (e.g., meadows monitoring). The SUMMP establishes the management system and tools for stock use and includes site-specific opening dates for grazing, grazing management, use levels, protection of Sierra Nevada bighorn sheep ewe-lamb ranges, installation of drift fences, stock and camp etiquette, implementation of temporary variances, and other closures. The SUMMP also establishes a monitoring program to inform and modify management as necessary to reduce resource impacts.

Alternative 2 (NPS preferred alternative) would protect wilderness character by implementing site-specific actions, incorporating much of the current management strategies and tools used by the parks to protect wilderness. Wilderness would be managed by evaluating conditions in specific areas and mitigating impacts through targeted actions. The goal is to encourage wilderness use and minimize restrictions while preserving wilderness character. Alternative 2 acknowledges that there are some challenges in the most popular areas and in areas with sensitive resources that can be mitigated through targeted improvements in management. Most wilderness trails in the parks would remain open to stock under this alternative. Stock would continue to be allowed to travel up to one-half mile off maintained trails to reach campsites. Off-trail stock travel would continue to be allowed in four areas of the parks: On the Monarch Divide, in the Roaring River area, on the Hockett Plateau, and along the western side of the Kern River watershed south from the Chagoopa Plateau. Grazing would generally be allowed in areas open to camping with stock (within 0.5 mile of maintained trails open to camping with stock or in off-trail travel areas), with some exceptions. Under alternative 2, the levels and types of commercial services to be performed would be similar to current conditions. However, the levels and types of commercial services allowed would be limited in the Mount Whitney Management Area, an approximately 37,200 acre area around Mount Whitney within Sequoia National Park.

Alternative 3 would provide more opportunities for primitive recreation by allowing additional use, which would be expected to occur mostly in popular areas. To preserve the natural quality of wilderness, the popular use areas in wilderness would require additional development and restrictions on visitor behavior. Most wilderness trails in the parks would remain open to stock under this alternative. Stock would continue to be allowed to travel up to one-half mile off maintained trails to reach campsites. Off-trail stock travel would continue to be allowed in four areas of the parks: On the Monarch Divide, in the Roaring River area, on the Hockett Plateau, and along the western side of the Kern River watershed south from the Chagoopa Plateau. Grazing would generally be allowed within 0.5 mile of maintained trails open to camping with stock, with some exceptions. As part of allowing increased use, the levels of commercial services would increase to accommodate less experienced visitors, to help educate visitors, and to control the impacts of inexperienced or inadequately equipped visitors.

Alternative 4 emphasizes the undeveloped quality and non-commercial recreation. This alternative would eliminate some of the development currently in wilderness to emphasize the undeveloped quality of wilderness. There would be fewer signs, bridges, stock-related facilities, and ranger stations. Restrooms/privies and food-storage boxes would be removed and there would be no designated campsites. Because fewer resource-protecting developments would remain in place, the amount of use would need to be reduced to protect the natural quality of wilderness. Private parties traveling with stock would continue to have access to most trails in the parks, and stock would continue to be allowed to travel off-trail in four designated areas. However, commercial stock use would be limited to certain destinations and trails. No private, commercial, or administrative stock grazing would be allowed under this alternative. Commercial services would be reduced to levels significantly lower than those in the no-action alternative and commercial services would be limited in high-use areas

Alternative 5 (environmentally preferable alternative) emphasizes opportunities for solitude by reducing the total number of wilderness visitors allowed in wilderness. Presence of fewer visitors in wilderness would in turn allow for reduced levels of development, along with reduced restrictions on visitor behavior (fewer people need fewer facilities). Reducing the numbers of visitors would also result in reduced impacts on resources. Stock travel more than 0.5 mile from trails open to camping with stock would be prohibited. Stock use and grazing would generally be allowed in most areas where overnight use is permitted with some exceptions. Commercial services would be at levels lower than those in the no-action alternative in most locations, but the percentage of total visitor use supported by commercial services would be similar to the no-action alternative to ensure that reduced access would not disproportionally affect any particular user group.

Dated: February 6, 2015.
Patricia L. Neubacher,
Acting Regional Director, Pacific West Region.

[FR Doc. 2015-08041 Filed 4-7-15; 8:45 am]

BILLING CODE P